ENVIRONMENTAL PROTECTION AGENCY

[EPA-HQ-OPP-2023-0323; FRL-11455-01-OCSPP]

Petition To Revoke Remaining Tolerances for Dicofol Use; Notice of Filing

AGENCY: Environmental Protection Agency (EPA).

ACTION: Notice.

SUMMARY: EPA is seeking public comment on a January 8, 2023, petition requesting that the Agency revoke all remaining tolerances of the pesticide dicofol. The petitioner submitted this petition pursuant to the Federal Food, Drug, and Cosmetic Act (FFDCA).

DATES: Comments must be received on or before November 16, 2023.

ADDRESSES: Submit your comments, identified by docket identification (ID) number EPA-HQ-OPP-2023-0323, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Susan Bartow, Pesticide Re-evaluation Division (7508M), Office of Pesticide Programs, Environmental Protection Agency, 1200 Pennsylvania Ave. NW, Washington, DC 20460-0001; telephone number: (202) 566-2280; email address: bartow.susan@epa.gov.

SUPPLEMENTARY INFORMATION:

I. General Information

A. Does this action apply to me?

This action is directed to the public in general and may be of interest to a wide range of stakeholders, including environmental, human health, and agricultural advocates, the chemical industry, pesticide users, agricultural producers, food manufacturers, pesticide manufacturers, and members of the public interested in the sale, distribution, or use of pesticides. The following list of North American Industrial Classification System (NAICS) codes is not intended to be exhaustive, but rather provides a guide to help readers determine whether this document applies to them. Potentially affected entities may include:

• Crop production (NAICS code 111).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

II. What action is the Agency taking?

EPA requests public comment during the next 30 days on a pesticide petition (available in docket number EPA-HQ-OPP-2023-0323 at https://www.regulations.gov). The petitioner requests that EPA revoke all remaining tolerances of the pesticide dicofol currently listed under 40 CFR 180.163. The petition is filed pursuant to section 408 of the FFDCA.

The petitioner indicates that while he is aware that multiple pesticides are allowed for use on tea, he wishes to ensure that the tea he consumes is free of dicofol residues. The petitioner provides a timeline of the registration and use of dicofol as a pesticide in the United States. The timeline describes an Agency decision on May 9, 2012 (77 FR 27164) in which all dicofol tolerances were revoked except for tolerances on “tea, dried' and `tea, plucked leaves.” The 2012 decision indicated that the Agency would address the tea tolerances and public comments received on them in a future document to be published in the Federal Register. The Tea Association of the U.S.A., Inc. previously provided public comments that dicofol is used in tea production in countries such as India, China, and Argentina, and requested that EPA not revoke the dicofol tolerances on tea but maintain them for importation purposes. The petitioner comments that the Agency did not address the remaining tea tolerances and public comments, as previously indicated in the 2012 decision.

Dicofol is an organochlorine miticide that was registered in the United States to control mites on a variety of noncrop areas and on food crops from 1957 to October 31, 2013. All use of dicofol in the United States has been cancelled, and all dicofol tolerances expired on October 31, 2016, except for tolerances on “tea, dried' and `tea, plucked leaves.”

Background materials related to the Agency's registration of dicofol and the phase out of its use are available online in public docket EPA-HQ-OPP-2005-0220 at https://www.regulations.gov. Information related to the Agency's dicofol tolerance actions are available online in public docket EPA-HQ-OPP-2012-0171 at https://www.regulations.gov.

Dated: October 11, 2023.
Mary Elissa Reaves,
Director, Pesticide Re-Evaluation Division, Office of Pesticide Programs.

[FR Doc. 2023-22906 Filed 10-16-23; 8:45 am]

BILLING CODE 6560-50-P